FEDERAL COMMUNICATIONS COMMISSION

Notice of Public Information Collection(s) Being Reviewed by the Federal Communications Commission

December 18, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 30, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-XXXX.

Title: Application for Authority to Construct or Make Changes in an International Broadcast Station.

Form No.: FCC Form 420-IB.

Type of Review: New collection.

Respondents: Business or other for-profit.

Number of Respondents: 10 respondents; 160 responses.

Estimated Time Per Response: 16 hours.

Frequency of Response: On occasion, annual and other reporting requirements.

Total Annual Burden: 160 hours.

Total Annual Cost: $44,000.

Needs and Uses: The Federal Communications Commission has developed a new FCC Form 420-IB to facilitate the Commission's goal to implement electronic filing of the form and to accommodate any changes to the form in the future. International broadcasters will file the FCC Form 420-IB in lieu of FCC Form 309. If the Commission did not collect this information, it would not be in a position to effectively coordinate spectrum for international broadcasters or to act for entities in times of frequency interference or adverse propagation conditions. The orderly nature of the provision of international broadcast service would be in jeopardy without the Commission's involvement.

OMB Control No.: 3060-XXXX.

Title: Application for an International Broadcast Station License.

Form No.: FCC Form 421-IB.

Type of Review: New collection.

Respondents: Business or other for-profit.

Number of Respondents: 10 respondents; 120 responses.

Estimated Time Per Response: 12 hours.

Frequency of Response: On occasion, annual and other reporting requirements.

Total Annual Burden: 120 hours.

Total Annual Cost: $36,000.

Needs and Uses: The Federal Communications Commission has developed FCC Form 421-IB to facilitate the Commission's goal to implement electronic filing of the form and to accommodate any changes to the form in the future. International broadcasters will file the FCC Form 421-IB in lieu of FCC Form 310.

OMB Control No.: 3060-XXXX.

Title: Application for Renewal of an International Broadcast Station License.

Form No: FCC Form 422-IB.

Type of Review: New collection.

Respondents: Business or other for-profit.

Number of Respondents: 10 respondents; 60 responses.

Estimated Time Per Response: 6 hours.

Frequency of Response: On occasion, annual and other reporting requirements.

Total Annual Burden: 60 hours.

Total Annual Cost: $32,000.

Needs and Uses: The Federal Communications Commission has developed FCC Form 422-IB to facilitate the Commission's goal to implement electronic filing of the form and to accommodate any changes to the form in the future. International broadcasters will file the FCC Form 422-IB in lieu of FCC Form 311.

OMB Control No.: 3060-XXXX.

Title: Application for Permit to Deliver Programs to Foreign Broadcast Stations.

Form No.: FCC Form 423-IB.

Type of Review: New collection.

Respondents: Business or other for-profit.

Number of Respondents: 30 respondents; 240 responses.

Estimated Time Per Response: 8 hours (average).

Frequency of Response: On occasion, annual and other reporting requirements.

Total Annual Burden: 240 hours.

Total Annual Cost: $62,000.

Needs and Uses: The Federal Communications Commission has developed a new FCC Form 423-IB to facilitate the Commission's goal to implement electronic filing of the form and to accommodate any changes to the form in the future. International broadcasters will file the FCC Form 423-IB in lieu of FCC Form 308.

OMB Control No.: 3060-1039.

Title: Nationwide Programmatic Agreement Regarding the Section 106 National Historic Preservation Act—Review Process, WT Docket No. 03-128.

Form No.: To be determined.

Type of Review: Extension of a currently approved collection.

Respondents: Individuals or households, business or other for-profit, not-for-profit institutions, and State, local or tribal government.

Number of Respondents: 12,000 respondents; 7,800 responses.

Estimated Time Per Response: 1-3 hours.

Frequency of Response: On occasion reporting requirement, third party disclosure requirement and recordkeeping requirement.

Total Annual Burden: 73,800 hours.

Total Annual Cost: $10,017,000.

Needs and Uses: The data is used by FCC staff, State Historic Preservation Officers (SHPO) Tribal Historic Preservation Officers (THPO) and the Advisory Council of Historic Preservation (ACHP) to take such actions as may be necessary to ascertain whether a proposed action may affect historic properties that are listed or eligible for listing in the National Register as directed by Section 106 of the National Historic Preservation Act (NHPA) and the Commission's rules.

Federal Communications Commission.
Marlene H. Dortch,
Secretary.

[FR Doc. 03-32112 Filed 12-30-03; 8:45 am]

BILLING CODE 6712-01-P